DEPARTMENT OF HOMELAND SECURITY

U.S. Customs and Border Protection

Commercial Truck Single-Crossing User Fee Automation and Prepayment Pilot

AGENCY: U.S. Customs and Border Protection; Department of Homeland Security.

ACTION: General notice.

SUMMARY: This document announces that U.S. Customs and Border Protection (CBP) intends to conduct a pilot test program pursuant to its authority under 19 CFR 101.9(a) to allow a new payment option for commercial truck single-crossing user fees. The CBP regulations specify the applicable user fee for commercial trucks upon arrival into the United States and the methods of payment, which include payment on an annual basis or on a per crossing basis. Although commercial truck carriers can electronically prepay the user fees on an annual basis, carriers who opt for the single-crossing user fee must pay the fee upon arrival at a U.S. port of entry. This pilot will enable the owner, agent, or person in charge of a commercial truck to prepay the single-crossing user fee online prior to arrival at a port of entry. This notice describes the pilot, its purpose, how it will be implemented, the duration of the pilot, and invites public comment on any aspect of the pilot. This pilot will not affect the annual commercial truck user fee payment option.

DATES: The pilot will begin at the Buffalo, Detroit and El Paso ports of entry starting on June 2, 2016. If it is determined that the pilot is working successfully at these initial ports, the pilot would be expanded to all U.S. land border ports of entry that process commercial trucks. The exact date of the expansion to all U.S. land border ports of entry would be announced on the CBP Web site, http://www.cbp.gov. The pilot will run for approximately one year. Comments concerning this notice and all aspects of the pilot may be submitted at any time during the pilot period.

ADDRESSES: Written comments concerning any aspect of the pilot should be submitted to James Pattan, Program Manager, Office of Field Operations, U.S. Customs and Border Protection, via email at James.Pattan@dhs.gov. In the subject line of your email, please indicate “Comment on Commercial Truck Single-Crossing User Fee Pilot”.

FOR FURTHER INFORMATION CONTACT: James Pattan, Program Manager, Office of Field Operations, U.S. Customs and Border Protection, by telephone at (202) 344-2293 or by email at James.Pattan@dhs.gov.

SUPPLEMENTARY INFORMATION:

Background

Commercial Truck User Fees

CBP collects user fees to pay for the costs incurred in providing customs services. These user fees offset inspection costs that were previously funded solely by general taxpayer revenue. Pursuant to the Consolidated Omnibus Budget Reconciliation Act of 1985 (COBRA), § 13031, Public Law 99-272, 110 Stat. 82 (1986), codified at 19 U.S.C. 58c, CBP shall charge and collect certain processing fees for air and sea passengers, commercial trucks, rail cars, private vessels, dutiable mail packages, and Customs broker permits.

Sections 24.22(b)-(e) and (g) of the CBP implementing regulations (19 CFR 24.22(b)-(e) and (g)) provide that, under certain circumstances, user fees must be paid upon arrival into the United States of certain commercial vessels, barges, and other bulk carriers from Canada or Mexico; commercial trucks; railroad cars; certain private vessels or private aircraft; and passengers aboard commercial vessels and commercial aircraft.

Section 24.22(c) sets forth the regulations pertaining to the user fees for commercial trucks upon arrival into the United States. The total commercial truck user fee consists of an Animal and Plant Health Inspection Service/Agricultural Quarantine Inspection (APHIS/AQI) fee collected on behalf of the U.S. Department of Agriculture and a CBP fee.¹ CBP collects the APHIS/AQI user fee and the CBP user fee together as one commercial truck user fee.

¹ The APHIS/AQI fee collected on behalf of the U.S. Department of Agriculture is authorized by 21 U.S.C. 136a. The APHIS/AQI fee amount is set forth in Section 354.3 of title 7 of the Code of Federal Regulations (7 CFR 354.3).

Current Payment Options

Section 24.22(c) provides commercial truck carriers with two alternatives to pay the required user fee. The commercial truck carrier may either prepay the fee for all arrivals of that truck during a calendar year (annual commercial truck user fee) ² or pay a per crossing fee each time the truck enters the United States (single-crossing user fee).

² For user fee collection purposes, a “transponder” is a plastic card which contains a chip that electronically transmits confirmation that applicable user fees for commercial trucks have been paid for the calendar year.

The owner, agent, or person in charge of the commercial truck can prepay the annual commercial truck user fee online through the Internet portal, “Decal and Transponder Online Procurement System (DTOPS)”,³ or by mail.⁴ After the annual user fee is paid, a transponder is issued, which is affixed to the vehicle's windshield to reflect the prepayment.

³ The DTOPS portal allows CBP to process user fee prepayment requests and accept electronic payments.

⁴ CBP Form 339C (Annual User Fee Decal Request—Commercial Vehicle).

Carriers that have not prepaid the annual commercial truck user fee are required to pay a per crossing fee each time the truck enters the United States. The user fee is collected when the truck arrives at the U.S. port of entry. The driver or other person in charge of the commercial truck is required to pay the user fee during primary processing or during referral to the administrative office.⁵ Payment may be by cash or credit card.

⁵ The method of payment for the commercial truck single-crossing user fee is currently dependent on the logistics of the particular U.S. port of entry.

Commercial Truck Single-Crossing User Fee Automation and Prepayment Pilot

Purpose of the Pilot

The purpose of the pilot is to streamline the payment of the commercial truck single-crossing user fees by introducing a new payment option. Specifically, CBP is working towards the elimination of cash and credit card collections of the commercial truck single-crossing user fee during commercial truck primary processing by automating and allowing prepayment of the fee.

This will provide benefits to both CBP and to commercial truck carriers. Cash and credit card collection at the port of entry is a manual, burdensome, and time-consuming process. The automation and prepayment option for the single-crossing user fee will reduce wait times, improve primary processing, save costs to truck carriers associated with idling time (such as gas and lost driving hours), and alleviate CBP officers of the administrative functions pertaining to the collection, accounting and transmittal of user fee collections.

Description and Implementation of the Pilot

Currently, when a commercial truck arrives at a U.S. port of entry and the annual user fee has not been prepaid, the driver or other person in charge of the truck pays the single-crossing user fee upon arrival. This pilot provides an additional payment option that will allow the owner, agent, or person in charge of a commercial truck to prepay the single-crossing user fee online via the DTOPS portal prior to the truck arriving at a U.S. port of entry.⁶ This pilot will allow the owner, agent, or person in charge of a commercial truck to access the DTOPS portal via a desktop computer (https://dtops.cbp.dhs.gov/) or a smartphone app to pay the required single-crossing user fee before arriving at the U.S. port of entry. After accessing the DTOPS portal, the Vehicle Identification Number (VIN) must be registered and the required user fee paid by credit card for each truck that will transit the U.S. border. After payment is accepted, DTOPS will provide an electronic receipt that may be printed. When the commercial truck arrives at primary processing, the CBP officer will check the Automated Commercial Environment (ACE) system to ensure that the user fee was prepaid. If the user fee was not prepaid, the driver or other person in charge of the truck will be required to pay the fee at the port of entry using cash or a credit card.

⁶ The prepayment of the annual commercial truck user fee is already automated via the DTOPS portal.

Duration of the Pilot

The pilot will begin at the Buffalo, Detroit and El Paso land ports of entry starting on June 2, 2016. If it is determined that the pilot is working successfully at these initial ports, the pilot would be expanded to all U.S. land border ports of entry that process commercial trucks. The exact date of the expansion to all U.S. land border ports of entry would be announced on the CBP Web site, http://www.cbp.gov. The pilot will run for approximately one year. Any owner, agent, or person in charge of a commercial truck can participate in the pilot. No application is needed to participate in the pilot. When sufficient pilot analysis has been conducted, and the comments analyzed, CBP will then consider whether to begin rulemaking to add the single-crossing commercial truck user fee prepayment option to 19 CFR 24.22(c).

Privacy

CBP will ensure that all Privacy Act requirements and applicable policies are adhered to during the implementation of this pilot.

Paperwork Reduction Act

An agency may not conduct or sponsor, and a person is not required to respond to, a collection of information unless it displays a valid control number assigned by OMB. The collections of information in this notice will be submitted for OMB approval 1651-0052 (User Fees).

Authorization for the Pilot

This pilot adds a payment option for commercial truck single-crossing user fees in addition to the payment method specified in 19 CFR 24.22(c). It is being conducted in accordance with § 101.9(a) of the CBP regulations (19 CFR 101.9(a)), which authorizes the Commissioner to impose requirements different from those specified in the CBP regulations for the purposes of conducting a test program or procedure designed to evaluate the effectiveness of new technology or operational procedures regarding the processing of passengers, vessels, or merchandise.

Dated: April 28, 2016.
R. Gil Kerlikowske,
Commissioner.

[FR Doc. 2016-10348 Filed 5-2-16; 8:45 am]

BILLING CODE 9111-14-P